DEPARTMENT OF AGRICULTURE

Forest Service

Malheur National Forest; Blue Mountain Ranger District; Grant County, Oregon; Magone Project Environmental Impact Statement

AGENCY: Forest Service, USDA.

ACTION: Notice of intent to prepare an environmental impact statement.

SUMMARY: The Forest Service will prepare an Environmental Impact Statement (EIS) to disclose the environmental effects of commercial and non-commercial vegetation management activities, prescribed burning, road activities, recreation opportunity improvements, and other restoration activities. Other design criteria are included to protect resources and facilitate management activities. The project is located on the Blue Mountain Ranger District, Malheur National Forest, Grant County, Oregon, approximately 7 miles north of the town of John Day, Oregon.

DATES: Comments concerning the scope of the analysis must be received within 30 days from the date of publication in the Federal Register.

ADDRESSES: Send written comments to Dave Halemeier, District Ranger, Blue Mountain Ranger District, c/o Sasha Fertig, P.O. Box 909, John Day, OR 97845. Comments may also be sent via email to comments-pacificnorthwest-malheur-bluemountain@fs.fed.us; or submitted via facsimile to 541-575-3319.

FOR FURTHER INFORMATION CONTACT: Sasha Fertig, Lead NEPA Planner, Blue Mountain Ranger District, 431 Patterson Bridge Road, P.O. Box 909, John Day, OR 97845. Phone: 541-575-3061. Email: sashafertig@fs.fed.us. Individuals who use telecommunication devices for the deaf (TDD) may call the Federal Information Relay Service (FIRS) at 1-800-877-8339 between 8 a.m. and 8 p.m., Eastern Time, Monday through Friday.

SUPPLEMENTARY INFORMATION: The Magone project planning area encompasses approximately 27,000 acres in the Grub Creek and East Fork Beech Creek subwatersheds that drain into the Upper John Day River. The legal description for the project planning area includes Townships 11 and 12 South, Ranges 31 and 32 East, Willamette Meridian, Grant County, Oregon.

Purpose and Need for Action

The purpose and need for the Magone Project was developed by comparing the management objectives and desired conditions in the Malheur Forest Plan to the existing conditions in the project planning area related to forest resiliency and function. Comparison of the existing and desired condition indicates the specific needs to: (1) Restore forest structure, composition, and density toward more resilient vegetative conditions given the historical fire regime; (2) reduce the fuel loadings by reducing the density and connectivity of standing vegetation, surface fuels, and ladder fuels; (3) maintain or improve habitat for fish and wildlife species present in the project planning area; (4) improve one or more of the nine roadless area characteristics within the Nipple Butte inventoried roadless area; and (5) provide for a variety of social values and opportunities in the watershed, including availability of traditional use plants, a variety of wood products, enhanced recreation experiences around Magone Lake, and forest management employment opportunities.

Proposed Action

The Forest proposed action includes silviculture treatments, prescribed burning, road activities, recreation opportunity improvements, and Magone Lake restoration activities to address the purpose and need. These activities would occur over approximately the next 10 years. The proposed action includes:

(1) Commercial thinning (5,500 acres), non-commercial thinning (1,200 acres), post and pole removal (400 acres), biomass removal (may occur within units designated for commercial and non-commercial thinning), and mountain mahongany and bitterbursh enhancement (within commercial and non-commercial thinning units). Silviculture treatments would help restore forest structure, composition, and density toward more resistant and resilient vegetative conditions.

(2) Prescribed fire on up to 28,500 acres to reduce and maitain fuel loadings. Treated stands would see a combination of burning piled material and underburning (approximately 5,800 acres). Those stands not mechanically treated would be managed exclusively with the use of prescribed burning. As conditions and stand characteristics allow, natural ignitions within the planning area would be used to meet the objectives of prescribed burning. In the project planning area, the Grant County Community Wildfire Protection Plan identified 2 county roads and the Malheur National Forest identified 4 Forest Service roads as potential escape route/safety corridors in the event of a wildland fire. Fuel breaks would be created and maintained using a combination of mechanical treatments and prescribed burning. Additionally, the decreased fuel loadings in strategically placed, shaded fuel breaks would afford suppression forces a higher probability of success controlling wildfires.

(3) Approximately 85 miles of road would be maintained for haul and 9 miles of temporary road would be constructed (and rehabilitated following use). The following changes to the road system are also proposed: Decommissioning 1.3 miles of road, closing 2.3 miles of currently open road, closing currently open roads and co-designating those roads as trails (1.3 miles), and converting a road to a trail (1.2 miles). These changes would reduce water quality issues, close roads that are already effectively closed on the ground, and decommission and close roads that are within the Nipple Butte inventoried roadless area (IRA).

(4) A variety of recreation opportunities would be developed to enhance recreational experiences in the project planning area. An expanded trail system would be centered around the Magone Lake developed recreation area. Several connecting trail options would provide for longer hikes, varied returns, and a more broad recreation experience. New construction of single-track bicycle trails within the Nipple Butte IRA would connect with existing bicycle trails and the other newly constructed trails. All of the trails would be single-track bicycle and hiker trails with measures to prevent any off-highway vehicle (OHV) use. Approximately 50 miles of trail would be designated, with 42 miles of that being new trail construction. New interpretive signs would be placed at Four Corners and the Magone Lake Campground. Fishing and recreational boating opportunities would be enhanced with expansion of the existing floating boat dock located at the boat launch, modifying the existing two piece floating dock adjacent to the campground, and placing a new floating fishing dock on the east side of Magone Lake.

(5) The proposed action also includes restoration activities within Magone Lake to increase near shore habitat complexity for fish. Fish cribs and fish sticks (bunches of 3 to 5 trees) would be placed on the ice during winter, to sink into the lake during ice melt.

Preliminary connectivity corridors have been identified between late and old structure stands to allow for movement of old-growth dependent species. The goal of creating “connectivity” is to manage stands in corridors at higher canopy densities when compared to more intensively managed stands located outside of corridors. Corridors established for old-growth dependent species in the project planning area would allow for big game migratory and dispersal movements, as well as providing higher cover rates and forage. The designated connectivity corridors are approximately 1,900 acres in size.

The Magone Project will also include a variety of project design criteria that serve to mitigate impacts of activities to forest resources, including wildlife, soils, watershed condition, aquatic species, riparian habitat conservation areas, heritage resources, visuals, rangeland, botanical resources, and invasive plants. The proposed action may also include amendments to the Malheur National Forest Land and Resource Management Plan, as amended.

Possible Alternatives

The Forest Service will consider a range of alternatives. One of these will be the “no action” alternative in which none of the proposed action would be implemented. Additional alternatives may be included in response to issues raised by the public during the scoping process or due to additional concerns for resource values identified by the interdisciplinary team.

Responsible Official

The Forest Supervisor of the Malheur National Forest, 431 Patterson Bridge Road, John Day, OR 97845, is the Responsible Official. As the Responsible Official, I will decide if the proposed action will be implemented. I will document the decision and rationale for the decision in the Record of Decision. I have delegated the responsibility for preparing the draft EIS and final EIS to the District Ranger, Blue Mountain Ranger District.

Nature of Decision To Be Made

Based on the purpose and need, the Responsible Official reviews the proposed action, the other alternatives, the environmental consequences, and public comments on the analysis in order to make the following decision:

(1) Whether to implement timber harvest and associated fuels treatments, prescribed burning, and watershed work, including the design features and potential mitigation measures to protect resources; and if so, how much and at what specific locations;

(2) What, if any, specific project monitoring requirements are needed to assure design features and potential mitigation measures are implemented and effective, and to evaluate the success of the project objectives. A project specific monitoring plan will be developed.

Scoping Process

This notice of intent initiates the scoping process, which guides the development of the environmental impact statement. The interdisciplinary team will continue to seek information, comments, and assistance from Federal, State, and local agencies, Tribal governments, and other individuals or organizations that may be interested in, or affected by, the proposed action. There is a collaborative group in the area that the interdisciplinary team will interact with during the analysis process.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: February 6, 2015.
Steven K. Beverlin,
Forest Supervisor.

[FR Doc. 2015-03027 Filed 2-12-15; 8:45 am]

BILLING CODE 3410-11-P